DEPARTMENT OF ENERGY

Federal Energy Regulatory Commission

[Project No. 12756-003; Project No. 12757-003; Project No. 12758-003]

Notice Soliciting Scoping Comments

| Project No.
BOST3 Hydroelectric Company, LLC | 12756-003
BOST4 Hydroelectric Company, LLC | 12757-003
BOST5 Hydroelectric Company, LLC | 12758-003

Take notice that the following hydroelectric applications have been filed with the Commission and are available for public inspection.

a. Type of Application: Original Major License.

b. Project Nos.: P-12756-003, 12757-003, and 12758-003.

c. Date filed: July 26, 2010, February 24, 2011, and March 28, 2011, respectively.

d. Applicants: BOST3 Hydroelectric Company, LLC (BOST3), BOST4 Hydroelectric Company, LLC (BOST4), and BOST5 Hydroelectric Company, LLC (BOST5).

e. Name of Projects: Red River Lock & Dam No. 3 Hydroelectric Project, Red River Lock and Dam No. 4 Hydroelectric Project, and Red River Lock and Dam No. 5 Hydroelectric Project.

f. Locations: The proposed projects would be located at the existing Army Corps of Engineer's (Corps) Red River Lock & Dam No. 3 on the Red River, in Natchitoches Parish near the City of Colfax, Louisiana, the existing Corps Red River Lock and Dam No. 4 on the Red River, in Red River Parish near the Town of Coushatta, Louisiana, and the existing Corps Red River Lock & Dam No. 5 on the Red River, in Bossier Parish near the Town of Ninock, Louisiana.

g. Filed Pursuant to: Federal Power Act 16 U.S.C. 791(a)-825(r).

h. Applicant Contacts: Mr. Douglas A. Spalding, BOST3 Hydroelectric Company, LLC, 8441 Wayzata Blvd., Suite 101, Golden Valley, MN 55426; (952) 544-8133, Mr. Douglas A. Spalding, BOST4 Hydroelectric Company, LLC, 8441 Wayzata Blvd., Suite 101, Golden Valley, MN 55426; (952) 544-8133, and Mr. Douglas A. Spalding, BOST5 Hydroelectric Company, LLC, 8441 Wayzata Blvd., Suite 101, Golden Valley, MN 55426; (952) 544-8133.

i. FERC Contact: Jeanne Edwards (202) 502-6181, or by email at jeanne.edwards@ferc.gov.

j. Deadline for filing scoping comments: 30 days from the issuance date of this notice, or March 22, 2012.

All documents may be filed electronically via the Internet. See 18 CFR 385.2001(a)(1)(iii) and the instructions on the Commission's Web site (http://www.ferc.gov/docs-filing/ferconline.asp), under the “eFiling” link. For a simpler method of submitting text only comments, click on “eComment.” For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. These applications are not ready for environmental analysis at this time.

l. Red River Lock and Dam No. 3: The proposed project would utilize the Corps' existing Red River Lock and Dam No. 3, and be operated consistent with the Corps current operation policy. The proposed project consists of: (1) An excavated 635-foot-long headrace channel to convey water from the upstream Pool No. 3 of the Red River to a 301-foot-long by 90-foot-wide concrete powerhouse located southwest of the end of the existing spillway; (2) an excavated 820-foot-long tailrace channel to discharge water from the powerhouse to the downstream Pool No. 2 of the Red River; (3) a 36.2-megawatt (MW) horizontal Kaplan bulb turbine/generator unit; (4) a 2,300-foot-long, 13.2-kilovolt (kV) overhead transmission line which crosses the river and connects to a Central Louisiana Electric Company substation located on the opposite side of the river; and (5) appurtenant facilities. The proposed project would generate about 172,779 megawatt-hours (MWh) annually, which would be sold to a local utility.

Red River Lock and Dam No. 4: The proposed project would utilize the Corps' existing Red River Lock and Dam No. 4, and be operated consistent with the Corps current operation policy. The proposed project would consist of: (1) An excavated 385-foot-long headrace channel to convey water from the upstream Pool No. 4 of the Red River to a 301-foot-long by 90-foot-wide concrete powerhouse located southwest of the end of the existing overflow weir; (2) an excavated 477-foot-long tailrace channel to discharge water from the powerhouse to the downstream Pool No. 3 of the Red River; (3) a 28.1-MW horizontal Kaplan bulb turbine/generator unit; (4) a 3.0 mile-long, 34.5-kV overhead transmission line leading from a project substation located at the project's powerhouse and connecting to Central Louisiana Electric Company's existing 34.5-kV transmission line; and (5) appurtenant facilities. The proposed project would generate about 128,532 MWh annually, which would be sold to a local utility.

Red River Lock and Dam No. 5: The proposed project would utilize the Corps' existing Red River Lock and Dam No. 5, and be operated consistent with the Corps current operation policy. The proposed project would consist of: (1) an excavated 416-foot-long headrace channel to convey water from the upstream Pool No. 5 of the Red River to a 301-foot-long by 90-foot-wide concrete powerhouse located northeast of the end of the existing overflow weir; (2) an excavated 495-foot-long tailrace channel to discharge water from the powerhouse to the downstream Pool No. 4 of the Red River; (3) a 28.1-MW horizontal Kaplan bulb turbine/generator unit; (4) a 7-mile-long, 34.5-kV overhead transmission line leading from the project's powerhouse and connecting to Central Louisiana Electric Company's new substation; and (5) appurtenant facilities. The proposed project would generate about 129,400 MWh annually, which would be sold to a local utility.

m. A copy of the application(s) are available for review at the Commission in the Public Reference Room, or may be viewed on the Commission's Web site at http://www.ferc.gov, using the “eLibrary” link. Enter the docket number(s), excluding the last three digits in the docket number field, to access the document(s). For assistance, contact FERC Online Support. A copy is available for inspection and reproduction at the respective addresses in item h above.

n. You may register online at http://www.ferc.gov/docs-filing/esubscription.asp to be notified via email of new filings and issuances related to these or other pending projects. For assistance, contact FERC Online Support.

o. Scoping Process

The Commission staff intends to prepare a single Environmental Assessment (EA), to include all three Red River Projects (Red River Lock and Dam No. 3 Project No. 12756, Red River Lock and Dam No. 4 Project No. 12757, and Red River Lock and Dam No. 5 Project No. 12758), in accordance with the National Environmental Policy Act. The EA will consider both site-specific and cumulative environmental impacts, as well as reasonable alternatives to the proposed actions.

Commission staff does not propose to conduct any on-site scoping meetings at this time. Instead, we are soliciting comments, recommendations, and information on the Scoping Document (SD) issued on February 17, 2012.

Copies of the SD outlining the subject areas to be addressed in the EA were distributed to the parties on the Commission's mailing list and the applicant's distribution list. Copies of the SD may be viewed on the Web at http://www.ferc.gov, using the “eLibrary” link. Enter the docket number(s), excluding the last three digits in the docket number field(s), to access the document(s). For assistance, call 1-866-208-3676, or for TTY, (202) 502-8659.

Dated: February 22, 2012.
Kimberly D. Bose,
Secretary.

[FR Doc. 2012-4769 Filed 2-28-12; 8:45 am]

BILLING CODE 6717-01-P